NATIONAL TRANSPORTATION SAFETY BOARD

49 CFR Part 830

Notification and Reporting of Aircraft Accidents or Incidents and Overdue Aircraft, and Preservation of Aircraft Wreckage, Mail, Cargo, and Records

AGENCY: National Transportation Safety Board (NTSB).

ACTION: Proposed rule; extension of comment period.

SUMMARY: On March 31, 2008, the NTSB published a Notice of Proposed Rulemaking to amend its regulations concerning notification and reporting requirements with regard to unmanned aircraft accidents, found at 49 Code of Federal Regulations (CFR) Part 830, “Notification and Reporting of Aircraft Accidents or Incidents and Overdue Aircraft, and Preservation of Aircraft Wreckage, Mail, Cargo, and Records.” This Notice of Proposed Rulemaking is available at 73 FR 16826 (Mar. 31, 2008). The NTSB is publishing this notice to inform the public that it is extending the comment period for the Notice of Proposed Rulemaking to September 30, 2008.

DATES: Submit comments on or before September 30, 2008.

ADDRESSES: You may send written comments using any of the following methods:

1. Government-wide rulemaking Web site: Go to http://www.regulations.gov and follow the instructions for sending your comments electronically.

2. Mail: Mail comments concerning this proposed rule to Dana Schuize, AS-b, National Transportation Safety Board, 490 L'Enfant Plaza, SW., Washington, DC 20594-2000.

3. Fax: (202) 314-6319, Attention: Dana Schuize.

4. Hand Delivery: 6th Floor, 490 L'Enfant Plaza, SW., Washington, DC, between 9 a.m. and 5 p.m., Monday through Friday, except Federal holidays.

FOR FURTHER INFORMATION, CONTACT: Dana Schuize, Office of Aviation Safety, (202) 314-6323.

SUPPLEMENTARY INFORMATION: After issuing the March 31, 2008, Notice of Proposed Rulemaking concerning unmanned aircraft accidents, the NTSB discovered that a problem existed with the Web site, available at http://www.regulations.gov, that the NTSB listed in the Notice as one mechanism by which it would receive public comments. In particular, the NTSB subsequently determined that commenters were unable to submit comments through that Web site. The NTSB has arranged for this problem to be corrected and verified that commenters may now access the Notice of Proposed Rulemaking and submit comments via http://www.regulations.gov. As such, the NTSB is allowing the comment period for the Notice of Proposed Rulemaking to remain open until September 30, 2008. The NTSB notes that it received several comments via facsimile and postal mail; commenters who submitted comments via facsimile or postal mail need not resubmit them.

Dated: August 8, 2008.
Vicky D'Onofrio,
Federal Register Liaison Officer.

[FR Doc. E8-19104 Filed 8-19-08; 8:45 am]

BILLING CODE 7533-01-M